DEPARTMENT OF COMMERCE

National Oceanic and Atmospheric Administration

RIN 0648-XS41

Marine Mammals; File No. 87-1851

AGENCY: National Marine Fisheries Service (NMFS), National Oceanic and Atmospheric Administration (NOAA), Commerce.

ACTION: Notice; issuance of permit amendment.

SUMMARY: Notice is hereby given that Daniel P. Costa, Ph.D., University of California at Santa Cruz, Long Marine Laboratory, 100 Shaffer Road, Santa Cruz, CA has been issued a major amendment to Permit No. 87-1851-03.

ADDRESSES: The permit amendment and related documents are available for review upon written request or by appointment in the following office(s): Permits, Conservation and Education Division, Office of Protected Resources, NMFS, 1315 East-West Highway, Room 13705, Silver Spring, MD 20910; phone (301) 427-8401; fax (301) 713-0376; and Southwest Region, NMFS, 501 West Ocean Blvd., Suite 4200, Long Beach, CA 90802-4213; phone (562) 980-4001; fax (562) 980-4018.

FOR FURTHER INFORMATION CONTACT: Amy Sloan or Tammy Adams, Ph.D., (301) 427-8401.

SUPPLEMENTARY INFORMATION: On August 2, 2011, notice was published in the Federal Register (76 FR 46279) that a request for an amendment to Permit No. 87-1851-03 to conduct research on Weddell seals (Leptonychotes weddellii) had been submitted by the above-named applicant. The requested permit amendment has been issued under the authority of the Marine Mammal Protection Act of 1972, as amended (16 U.S.C. 1361 et seq.), and the regulations governing the taking and importing of marine mammals (50 CFR part 216).

Permit No. 87-1851-04 changes the expiration date of the permit from January 31, 2012 to December 31, 2012, and authorizes capture, tagging, and sampling of 35 Weddell seals, and weighing 35 Weddell seal nursing pups, during 2012. The amendment also increases the number of authorized mortalities from 3 to 4 annually, but does not increase the number authorized over the duration of the permit (eight total).

In compliance with the National Environmental Policy Act of 1969 (42 U.S.C. 4321 et seq.), a final determination has been made that the activity proposed is categorically excluded from the requirement to prepare an environmental assessment or environmental impact statement.

Dated: November 4, 2011.
P. Michael Payne,
Chief, Permits, Conservation and Education Division, Office of Protected Resources, National Marine Fisheries Service.

[FR Doc. 2011-29306 Filed 11-10-11; 8:45 am]

BILLING CODE 3510-22-P